DEPARTMENT OF AGRICULTURE

Agricultural Marketing Service

[Document Number AMS-SC-21-0100]

Virtual Meeting of the Fruit and Vegetable Industry Advisory Committee

AGENCY: Agricultural Marketing Service, USDA.

ACTION: Notice of public meeting.

SUMMARY: In accordance with the Federal Advisory Committee Act, as amended, the Agricultural Marketing Service (AMS), U.S. Department of Agriculture (USDA), is announcing a meeting of the Fruit and Vegetable Industry Advisory Committee (FVIAC). The meeting is being convened to examine industry recommendations provided by the Produce Marketing Association (PMA) and the United Fresh Produce Association (United Fresh). During the two-day FVIAC public meeting held November 3-4, 2021, the industry trade groups jointly submitted recommendations for discussion and consideration by FVIAC representatives. This virtual meeting will provide FVIAC representatives the opportunity to engage with United Fresh-PMA stakeholders.

DATES: The FVIAC will meet via webinar (virtually) on February 01, 2022, from 10:00 a.m. to 3:00 p.m. Eastern Time (ET). The deadline to submit written comments is 11:59 p.m. ET, on January 26, 2022.

ADDRESSES: The webinar for the meeting and public comment period can be accessed via the internet and/or phone. Members of the public must register in advance for this webinar: https://www.zoomgov.com/webinar/register/WN_97rK0ODLS7ev7SGFYwzEMw. Access information will also be available on the AMS website prior to the event. Detailed information can be found at https://www.ams.usda.gov/about-ams/facas-advisory-councils/fviac.

FOR FURTHER INFORMATION CONTACT: Darrell Hughes, Designated Federal Officer, Fruit and Vegetable Industry Advisory Committee, USDA—AMS-Specialty Crops Program, 1400 Independence Avenue SW, Suite 1575, STOP 0235, Washington, DC 20250-0235; Telephone: (202) 378-2576; Email: SCPFVIAC@usda.gov.

SUPPLEMENTARY INFORMATION: Pursuant to the Federal Advisory Committee Act (FACA) (5 U.S.C. app. 2), the Secretary of Agriculture (Secretary) established the Committee in 2001 to examine the full spectrum of issues faced by the fruit and vegetable industry and to provide suggestions and ideas to the Secretary on how USDA can tailor its programs to meet the fruit and vegetable industry's needs.

The AMS Deputy Administrator for the Specialty Crops Program serves as the Committee's Executive Secretary, leading the effort to administer the Committee's activities. Representatives from USDA mission areas and other government agencies affecting the fruit and vegetable industry are periodically called upon to participate in the Committee's meetings as determined by the Committee. AMS is giving notice of the Committee meeting to the public so that they may participate and present their views via written comments. The meeting is open to the public.

Agenda items may include, but are not limited to, welcome and introductions; administrative matters; consideration of recommendations pertaining to labor and production, food safety, climate and infrastructure, and consumption; and presentations by subject matter experts as requested by the Committee.

Written Comments: Written public comments will be accepted on or before 11:59 p.m. ET on January 26, 2022 via http://www.regulations.gov: Document # AMS-SC-21-0100. Comments submitted after this date will be provided to AMS, but the Committee may not have adequate time to consider those comments prior to the meeting. AMS, Specialty Crops Program, strongly prefers that comments be submitted electronically. However, written comments may also be submitted (i.e., postmarked) via mail to the person listed in the FOR FURTHER INFORMATION CONTACT section by or before the deadline.

Meeting Accommodations: If you are a person requiring reasonable accommodation, please make requests in advance for sign language interpretation, assistive listening devices, or other reasonable accommodation, to the person listed under the FOR FURTHER INFORMATION CONTACT section. Determinations for reasonable accommodation will be made on a case-by-case basis.

Dated: December 21, 2021.
Cikena Reid,
USDA Committee Management Officer.

[FR Doc. 2021-28008 Filed 12-23-21; 8:45 am]

BILLING CODE P